COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes service(s) from the Procurement List that were furnished by nonprofit agencies employing persons who are blind or have other severe disabilities.

DATES: Date deleted from the Procurement List: January 03, 2021.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 10/30/2020, the Committee for Purchase From People Who Are Blind or Severely Disabled published notice of proposed deletions from the Procurement List. This notice is published pursuant to 41 U.S.C. 8503 (a)(2) and 41 CFR 51-2.3.

After consideration of the relevant matter presented, the Committee has determined that the service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following service(s) are deleted from the Procurement List:

Service(s)

Service Type: Data Entry/Telephone.

Mandatory for: GSA, FAS, Heartland Acquisition Center, Integrated Facilities Management & Industrial Products Solutions Center, Kansas City, MO.

Designated Source of Supply: JobOne, Independence, MO.

Contracting Activity: FEDERAL ACQUISITION SERVICE, GSA/FAS TOOLS ACQUISITION DIVISION.

Service Type: Janitorial/Custodial.

Mandatory for: GSA, Parking Lot Bismark: 1st and Thayer Streets, Bismarck, ND.

Mandatory for: GSA, Storage Building: 117 Main Street, Bismarck, ND.

Designated Source of Supply: Pride, Inc., Bismarck, ND.

Contracting Activity: PUBLIC BUILDINGS SERVICE, PBS R8.

Service Type: Custodial Services.

Mandatory for: Department of Veterans Affairs, Community Based Outpatient Clinic, 225 Boston Road, Lynn, MA.

Mandatory for: Department of Veterans Affairs, Community Based Outpatient Clinic, 108 Merrimack Street, Haverhill, MA.

Designated Source of Supply: Morgan Memorial Goodwill Industries, Boston, MA.

Contracting Activity: VETERANS AFFAIRS, DEPARTMENT OF, 241-NETWORK CONTRACT OFFICE 01.

Service Type: Installation Support Services.

Mandatory for: US Army, Fort Hood, Fort Hood, TX.

Designated Source of Supply: Training, Rehabilitation, & Development Institute, Inc., San Antonio, TX.

Contracting Activity: DEPT OF THE ARMY, W6QM MICC-FDO FT HOOD.

Service Type: Janitorial/Custodial.

Mandatory for: Internal Revenue Service: 11501 and 11601 Roosevelt Boulevard, Philadelphia, PA.

Contracting Activity: INTERNAL REVENUE SERVICE, DEPT OF TREAS, IRS, OFC OF PROCUREMENT OPERATIONS.

Service Type: Mailroom Operation.

Mandatory for: GSA, Arlington: Crystal Mall #3, Arlington, VA.

Designated Source of Supply: Didlake, Inc., Manassas, VA.

Contracting Activity: OFFICE OF THE ADMINISTRATOR (ACMD), THE INTERNAL ACQUISITION DIVISION (IAD).

Service Type: Janitorial/Custodial.

Mandatory for: Denver Federal Center: Buildings 76, 80, 93 and 94, Denver, CO.

Mandatory for: Denver Federal Center: Building 75, 80 (+3 adjacent trailers), 82, 83K, 85, 710, 710A and 810, Denver, CO.

Designated Source of Supply: North Metro Community Services for Developmentally Disabled, Westminster, CO.

Contracting Activity: GENERAL SERVICES ADMINISTRATION, FPDS AGENCY COORDINATOR.

Michael R. Jurkowski,
Deputy Director, Business & PL Operations.

[FR Doc. 2020-26735 Filed 12-3-20; 8:45 am]

BILLING CODE 6353-01-P